DEPARTMENT OF ENERGY

Federal Energy Regulatory Commission

[Docket No. EC02-52-000, et al.]

Florida Power & Light Company, et al.; Electric Rate and Corporate Regulation Filings

February 26, 2002.

Take notice that the following filings have been made with the Commission. Any comments should be submitted in accordance with Standard Paragraph E at the end of this notice.

1. Florida Power & Light Company, Tampa Electric Company

[Docket No. EC02-52-000]

Take notice that on February 22, 2002, Florida Power & Light Company (FPL) and Tampa Electric Company (TECO) tendered for filing an application requesting all necessary authorizations under Section 203 of the Federal Power Act for a transfer from FPL to TECO of a 13.55 mile long transmission line located in Hillsborough County, Florida.

Comment Date: March 15, 2002

2. B.L. England Power LLC

[Docket No. EG02-80-000]

Take notice that on February 22, 2002, B.L. England Power LLC (BL England) supplemented its application in the above-referenced docket by (i) submitting the order issued on February 20, 2002 by the New Jersey Board of Public Utilities under section 32(c) of the Public Utility Holding Company Act of 1935 finding that allowing the BL England facility to be an eligible facility is in the public interest; and (ii) clarifying its statement regarding other leases associated with the facility.

Comment Date: March 19, 2002

3. Deepwater Power LLC

[Docket No. EG02-81-000]

Take notice that on February 22, 2002, Deepwater Power LLC (Deepwater) supplemented its application in the above-referenced docket by (i) submitting the order issued on February 20, 2002 by the New Jersey Board of Public Utilities under section 32(c) of the Public Utility Holding Company Act of 1935 finding that allowing the Deepwater facility to be an eligible facility is in the public interest; and (ii) clarifying its statement regarding other leases associated with the facility.

Comment Date: March 19, 2002

4. Keystone Power LLC

[Docket No. EG02-82-000]

Take notice that on February 22, 2002, Keystone Power LLC (Keystone) supplemented its application in the above-referenced docket by (i) submitting the order issued on February 20, 2002 by the New Jersey Board of Public Utilities under section 32(c) of the Public Utility Holding Company Act of 1935 with respect to Keystone's purchase of the Atlantic City Electric Company interest in the Keystone facility; and (ii) clarifying its statement regarding other leases associated with the facility.

Comment Date: March 19, 2002

5. Conemaugh Power LLC

[Docket No. EG02-83-000]

Take notice that on February 22, 2002, Conemaugh Power LLC (Conemaugh) supplemented its application in the above-referenced docket by (i) submitting the order issued on February 20, 2002 by the New Jersey Board of Public Utilities under section 32(c) of the Public Utility Holding Company Act of 1935 with respect to Conemaugh's purchase of the Atlantic City Electric Company interest in the Conemaugh facility; and (ii) clarifying its statement regarding other leases associated with the facility.

Comment Date: March 19, 2002

6. Southeast Chicago Energy Project, LLC

[Docket No. EG02-97-000]

Take notice that on February 21, 2002, Southeast Chicago Energy Project, LLC (Applicant) filed with the Federal Energy Regulatory Commission (Commission), an application for determination of Exempt Wholesale Generator (EWG) status pursuant to Part 365 of the Commission's regulations.

The Applicant states that it will own and sell electric energy from six combustion turbines with a combined generating capacity of 350 MW and certain limited interconnection facilities located in Calumet, Illinois.

Comment Date: March 19, 2002

7. Southern Company Services, Inc.

[Docket Nos. ER00-1608-001 and ER01-2166-001]

Take notice that on February 19, 2002, Southern Company Services, Inc. (SCS), acting on behalf of Alabama Power Company, Georgia Power Company, Gulf Power Company, Mississippi Power Company, and Savannah Electric and Power Company (collectively Southern Companies) made an informational filing regarding their intent to recover from Tenaska Alabama Partners, LP (Tenaska), pursuant to an interconnection agreement between Tenaska and Southern Companies, and from Duke Energy North American LLC (Duke), pursuant to an interconnection agreement between DENA and Southern Companies, Southern Companies' actually incurred costs associated with line outages that were necessary for Tenaska and DENA to interconnect certain of their generating facilities to Southern Companies' transmission system. In addition, Southern Companies filed supporting informational materials regarding their policies and procedures for assigning cost responsibility to interconnection customers for expenses related to transmission line outage.

Comment Date: March 12, 2002

8. San Diego Gas & Electric Company

[Docket No. ER02-635-001]

Take notice that on February 21, 2002, San Diego Gas & Electric (SDG&E) tendered for filing an errata related to its change in rates for the Transmission Revenue Balancing Account Adjustment and the Transmission Access Charge Balancing Account Adjustment set forth in its Transmission Owner Tariff (TO Tariff). This charge was filed December 28, 2001 in Docket No. ER02-635-000. The effect of this rate change is to increase rates for jurisdictional transmission service utilizing that portion of the California Independent System Operator-Controlled Grid owned by SDG&E. This errata does not change the rates submitted by SDG&E on December 28, 2001.

Copies of this filing were served upon the Public Utilities Commission of the State of California, the California Independent System Operator, and other interested parties.

Comment Date: March 13, 2002.

9. Cinergy Services, Inc.

[Docket No. ER02-1047-000]

Take notice that on February 21, 2002, Cinergy Services, Inc. (Cinergy) and Louisville Gas & Electric Company requests a cancellation of Service Agreement No. 77, under Cinergy Operating Companies, Resale of Transmission Rights and Ancillary Service Rights, FERC Electric Tariff Original Volume No. 8.

Cinergy requests an effective date of February 22, 2002.

Comment Date: March 13, 2002.

10. Cineregy Services, Inc.

[Docket No. ER02-1048-000]

Take notice that on February 21, 2002, Cinergy Services, Inc. (Cinergy) tendered for filing a Service Agreement under Cinergy's Resale Assignment or Transfer of Transmission Rights and Ancillary Service Rights Tariff (the Tariff) entered into between Cinergy and Louisville Gas and Electric Company/Kentucky Utilities Company.

Cinergy and FPL are requesting an effective date of February 22, 2002.

Comment Date: March 13, 2002.

11. Cinergy Services, Inc.

[Docket No. ER02-1049-000]

Take notice that on February 21, 2002, Cinergy Services, Inc. (Cinergy) and Kentucky Utilities Company, requests a cancellation of Service Agreement No. 73, under Cinergy Operating Companies, Resale of Transmission Rights and Ancillary Service Rights, FERC Electric Tariff Original Volume No. 8.

Cinergy requests an effective date of February 22, 2002.

Comment Date: March 13, 2002.

12. Alliant Energy Corporate Services Inc.

[Docket No. ER02-1050-000]

Take notice that on February 19, 2002, Alliant Energy Corporate Services Inc. (ALTM) tendered for filing a signed Service Agreement under ALTM's Market Based Wholesale Power Sales Tariff (MR-1) between itself and Rainbow Energy Marketing Corporation (Customer). ALTM respectfully requests a waiver of the Commission's notice requirements, and an effective date of February 4, 2002.

Comment Date: March 12, 2002.

13. Alliant Energy Corporate Services Inc.

[Docket No. ER02-1051-000]

Take notice that on February 19, 2002, Alliant Energy Corporate Services Inc. (ALTM) tendered for filing a signed Service Agreement under ALTM's Market Based Wholesale Power Sales Tariff (MR-1) between itself and Village of Albany, Illinois (Customer). ALTM respectfully requests a waiver of the Commission's notice requirements, and an effective date of January 21, 2002.

Comment Date: March 12, 2002.

14. West Georgia Generating Company, L.L.C.

[Docket No. ER02-1052-000]

Take notice that on February 20, 2002, West Georgia Generating Company, L.L.C. (West Georgia) tendered for filing a revised tariff sheet to reflect the correct name of the entity under the rate schedule and remove a restriction on West Georgia's ability to engage in transactions with the affiliate of the former owner of the facility. West Georgia also seeks to terminate the obsolete Codes of Conduct associated with the former owner. West Georgia requests that the tariff changes become effective upon the date of the filing, February 20, 2002.

Comment Date: March 13, 2002.

15. California Independent System Operator Corporation

[Docket No. ER02-1053-000]

Take notice that on February 21, 2002, the California Independent System Operator Corporation (ISO) tendered for filing Amendment No.1 to the Interconnected Control Area Operating Agreement (ICAOA) between the ISO and the Western Area Power Administration Desert Southwest Region (WAPA). The ISO requests that the agreement be made effective as of January 18, 2002.

The ISO states that this filing has been served on the persons listed in the service list for Docket No. ER98-3708-000.

Comment Date: March 13, 2002.

16. NRG Northern Ohio Generating LLC, NRG Ashtabula Generating LLC, NRG Lake Shore Power LLC

[Docket No. ER02-1054-000, ER02-1055-000, and ER02-1056-000]

Take notice that on February 21, 2002, NRG Northern Ohio Generating LLC (NRG Northern Ohio), NRG Ashtabula Generating LLC and NRG Lake Shore Generating LLC (together the Applicants), limited liability corporations organized under the laws of the State of Delaware, filed under section 205 of the Federal Power Act, requests that for each of the Applicants the Commission (1) accept for filing proposed market-based FERC Rate Schedules; (2) grant blanket authority to make market-based wholesale sales of capacity and energy under their appropriate FERC Rate Schedules; (3) grant authority to sell ancillary services at market-based rates; and (4) grant such waivers and blanket authorizations as the Commission has granted in the past to other nonfranchised entities with market-based rate authority.

Comment Date: March 13, 2002.

17. PJM Interconnection, L.L.C.

[Docket No. ER02-1058-000]

Take notice that on February 21, 2002, PJM Interconnection, L.L.C. (PJM), tendered for filing with the Federal Energy Regulatory Commission (Commission) the following two executed agreements: (1) one network integration transmission service agreement for Reliant Energy Services, Inc. (Reliant); and (2) one network integration transmission service agreement for Allegheny Electric Cooperative, Inc. (Allegheny Electric).

PJM requested a waiver of the Commission's notice regulations to permit effective date of February 1 for the agreements, which is within 30 days of the date of this filing. Copies of this filing were served upon Reliant and Allegheny Electric, as well as the state utility regulatory commissions within the PJM control area.

Comment Date: March 13, 2002.

18. WPS Resources Corporation.

[Docket No. ER02-1059-000]

Take notice that on February 21, 2002, WPS Resources Corporation (WPSR) submitted revised market-based rate tariffs for its marketing subsidiaries, including WPS Power Development, Inc., WPS Energy Services, Inc., Mid-American Power LLC, Sunbury Generation, LLC, WPS New England Generation, Inc. (formerly, PDI New England, Inc.), WPS Canada Generation, Inc. (formerly, PDI Canada, Inc.), WPS Westwood Generation, LLC and Combined Locks Energy Center, LLC. WPSR requests that the revised tariffs become effective on February 22, 2002, the day after this filing.

This filing has been served on the market-based rate customers of the WPSR subsidiaries.

Comment Date: March 13, 2002.

19. Duke Energy Southaven, LLC

[Docket No. ER02-1060-000]

Take notice that on February 21, 2002, Duke Energy Southaven, LLC (Duke Southaven) tendered for filing with the Federal Energy Regulatory Commission (Commission) pursuant to Section 205 of the Federal Power Act proposed revisions to its FERC Electric Tariff No. 1 (Tariff).

Duke Southaven requests pursuant to Section 35.11 of the Commission's regulations that the Commission waive the 60-day minimum notice requirement under Section 35.3(a) of its regulations and grant an effective date for this application of February 14, 2002, the date on which Duke Southaven commenced the sale of test energy. Duke Southaven commits to delay billing under its tariff until 60 days after the date this amendment was filed.

Comment Date: March 13, 2002.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-5052 Filed 3-1-02; 8:45 am]

BILLING CODE 6717-01-P